DEPARTMENT OF DEFENSE

Department of the Army

Notice of Availability (NOA) of the Transformation Draft Environmental Impact Statement (DEIS), Draft Clean Air Act General Conformity Determination, and Evaluation of Continued Land Withdrawal Under Public Law 104-201 at Fort Carson, CO

AGENCY: Department of the Army, DoD.

ACTION: Notice of Availability.

SUMMARY: The U.S. Army announces the availability of a DEIS that evaluates implementing transformational activities at Fort Carson, a military installation located south of Colorado Springs, Colorado. Actions associated with these transformational activities include restationing of troops; construction, demolition, and renovation of facilities at the Cantonment and range areas; and increased use of training lands.

DATES: The public comment period for the DEIS will end 45 days after publication of an NOA in the Federal Register by the U.S. Environmental Protection Agency (EPA).

ADDRESSES: Written comments or materials should be forwarded to the Fort Carson NEPA Coordinator (proponent), Directorate of Environmental Compliance and Management, 1638 Elwell Street, Building 6236, Fort Carson, Colorado 80913-4000.

FOR FURTHER INFORMATION CONTACT: Fort Carson NEPA Coordinator via phone at (719) 526-4666; fax: (719) 526-1705; or e-mail: nepa@carson.army.mil.

SUPPLEMENTARY INFORMATION: The Proposed Action and subject of the DEIS is the implementation of the following three major Army transformation programs at Fort Carson: Base Realignment and Closure; Integrated Global Presence and Basing Strategy (also known as Global Defense Posture Realignment); and the Army Modular Force initiative. Implementing these programs would require restationing of troops; construction, demolition, and renovation of facilities at Fort Carson's cantonment and range areas; and increased use of Fort Carson's training lands.

The transformation of Fort Carson would occur between 2006 and 2011. Upon completion of transformation activities, military personnel at Fort Carson would increase approximately 60 percent (from approximately 14,500 to approximately 23,000) and the Fort Carson installation population (including civilians, contractors, and military dependents) would increase from approximately 38,300 to approximately 59,700 by 2011. To support the new Soldiers and their dependents, the Army proposes to construct support facilities in the cantonment and range areas at Fort Carson. Fort Carson's training lands would also be subject to increased training rotations to support the maneuver and live-fire training requirements of the additional Soldiers.

The alternatives considered in the DEIS include the Proposed Action (Preferred Alternative) and No Action. Other action alternatives were considered and discussed in the DEIS but were not analyzed further because they did not meet the purpose and need for the Proposed Action. The substantive issues analyzed in this DEIS include land use, air quality, noise, geology and soils, water resources, biological resources, cultural resources, socioeconomics (including environmental justice), transportation, utilities, hazardous and toxic substances, and cumulative environmental effects.

To document that the Proposed Action complies with the General Conformity Rule requirements of the Clean Air Act Amendments of 1990 and demonstrate that the action conforms with the Colorado State Implementation Plan for air quality, the Army also prepared a Draft General Conformity Determination pursuant to the requirements of 40 CFR part 93, subpart B. The Colorado Springs area is currently in attainment with air quality standards for all criteria pollutants and is a maintenance area for carbon monoxide.

After conducting appropriate air quality analyses, the Army has concluded that the Proposed Action will not cause or contribute to new violations of the carbon monoxide national ambient air quality standards in the Colorado Springs maintenance area. The EPA and Colorado Department of Public Health and Environment will review the Army's findings and provide comments or concurrence.

Additionally, the Army has made a determination of a need for the continued withdrawal of 3,133.02 acres of public land and 11,416.16 acres of publicly owned mineral rights from the public domain. The withdrawal of these lands and mineral rights was extended until 2011 by Public Law 104-201, the National Defense Authorization Act for Fiscal Year 1997. The law requires the Army reevaluate the need for these withdrawals to continue after 2011 and hold a public hearing concerning the evaluation. The DEIS documents the Army's continued military need for these lands and evaluates the environmental effects of the continued military use of withdrawn lands.

The Army will hold a public meeting to receive comments on the DEIS, conformity determination, and land withdrawal on Wednesday, November 1, 2006 from 5:30 p.m. to 7:30 p.m. at Mesa Right High School, 6070 Mesa Ridge Parkway, Colorado Springs, Colorado 80911.

An electronic version of the DEIS can be viewed or downloaded from the following URL: http://www.hqda.army.mil/acsim/brac/nepa_eis_docs.htm.

Dated: October 6, 2006.
Addison D. Davis, IV,
Deputy Assistant Secretary of the Army, (Environment, Safety and Occupational Health).

[FR Doc. 06-8640 Filed 10-12-06; 8:45 am]

BILLING CODE 3710-08-M